DEPARTMENT OF COMMERCE

National Oceanic and Atmospheric Administration

RIN 0648-XC888

North Pacific Fishery Management Council; Public Meeting

AGENCY: National Marine Fisheries Service (NMFS), National Oceanic and Atmospheric Administration (NOAA), Commerce.

ACTION: Notice of a workshop hosted by the North Pacific Fishery Management Council.

SUMMARY: The North Pacific Fishery Management Council (Council) will host a public workshop for developing possibilities for collaboration in order to survey areas of coral abundance, to identify and develop tools for coral impact reduction, and potential management measures to be considered for conserving areas of coral concentrations and associated fish productivity.

DATES: The workshop will be held on October 15, 2013, 1 p.m. to 5 p.m., and October 16, 2013, 8:30 a.m. to 5 p.m.

ADDRESSES: The workshop will be held at the NMFS Alaska Fishery Science Center Traynor Room, 7600 Sand Point Way, Building 4, Seattle, WA.

Council address: North Pacific Fishery Management Council, 605 W. 4th Ave., Suite 306, Anchorage, AK 99501-2252.

FOR FURTHER INFORMATION CONTACT: Steve MacLean, Council staff, telephone: (907) 271-2809.

SUPPLEMENTARY INFORMATION: The workshop objectives and agenda can be found here: https://www.alaskafisheries.noaa.gov/npfmc/. Interested parties also may participate in the workshop via Webex by logging on at https://npfmc.webex.com.

Special Accommodations

These meetings are physically accessible to people with disabilities. Requests for sign language interpretation or other auxiliary aids should be directed to Gail Bendixen at (907) 271-2809 at least 7 working days prior to the meeting date.

Dated: September 24, 2013.
Tracey L. Thompson,
Acting Deputy Director, Office of Sustainable Fisheries, National Marine Fisheries Service.

[FR Doc. 2013-23614 Filed 9-26-13; 8:45 am]

BILLING CODE 3510-22-P